DEPARTMENT OF TRANSPORTATION

Federal Aviation Administration

Notice of Intent To Rule on Application 01-01-C-00-PIT to Impose and Use Revenue from a Passenger Facility Charge (PFC) at the Pittsburgh International Airport, Pittsburgh, PA

AGENCY: Federal Aviation Administration (FAA), DOT.

ACTION: Notice of intent to rule on application.

SUMMARY: The FAA proposes to rule and invites public comment on application to impose and use the revenue from a PFC at the Pittsburgh International Airport under the provisions of the Aviation Safety and Capacity Expansion Act of 1990 (Title IX of the Omnibus Budget Reconciliation Act of 1990) (Public Law 101-508) and Part 158 of the Federal Aviation Regulations (14 CFR Part 158).

DATES: Comments must be received on or before July 18, 2001.

ADDRESSES: Comments on this application may be mailed or delivered in triplicate to the FAA at the following address: Harrisburg Airports District Office, Slate Hill Business Park, Camp Hill, PA 17911.

In addition, one copy of any comments submitted to the FAA must be mailed or delivered to Kent George, Executive Director, Allegheny County Airport Authority at the following address: 1000 Airport Boulevard, Suite 4000, Pittsburgh, PA 15231-0370.

Air carriers and foreign air carriers may submit copies of written comments previously provided to the Allegheny County Airport Authority under section 158.23 of Part 158.

FOR FURTHER INFORMATION CONTACT: Patrick J. Sullivan, Team Leader, Airports District Office, 3911 Hartzdale Drive, 717-730-2832. The application may be reviewed in person at this same location.

SUPPLEMENTARY INFORMATION: The FAA proposes to rule and invites public comment on the application to impose and use the revenue from a PFC at the Pittsburgh International Airport under the provisions of the Aviation Safety and Capacity Expansion Act of 1990 (Title IX of the Omnibus Budget Reconciliation Act of 1990) (Public Law 101-508) and Part 158 of the Federal Aviation Regulations (14 CFR part 158).

On June 11, 2001, the FAA determined that the application to impose and use the revenue from a PFC submitted by the Allegheny County Airport Authority was substantially complete within the requirements of section 158.25 of Part 158. The FAA will approve or disapprove the application, in whole or in part, no later than September 26, 2001.

The following is a brief overview of the application.

PFC Application No.: 01-01-C-00-PIT.

Level of the proposed PFC: $3.00.

Proposed charge effective date: August 1, 2001.

Proposed charge expiration date: August 1, 2006.

Total estimated PFC revenue: $121,093,050.

Brief description of proposed project(s):

—Runway 10L Rehabilitation and Safety Area Improvement

—Expand and Upgrade Deicing Facilities

—Install Non-exclusive Baggage Devices

—Residential Sound Insulation-Phases 5 and 6

—Rehabilitate Taxiways F and P

—Relocate Electrical Vault-R/W 10R-28L

—Install R/W 14-32 Lighting and Miscellaneous Airfield Lighting

—Asphalt/Concrete Rehabilitation Program-Taxiways and Aprons

—Asphalt/Concrete Rehabilitation Program-Terminal Roadway

—Master Plan Update

—Acquire Snow Removal Equipment

—Acquire ARFF Equipment

—Acquire Part 107 Police Equipment

—Acquire Part 139 Airfield Equipment

—Construct Part 139 Command Center Phase 1

—Command Center and Equipment—Phase 2

—Widen Taxiway Y

—Design Relocation of Taxiway E

—Construct Snow Removal Equipment Storage Building

—Replace Airfield Sand/Chemical Storage Dome

—Install Midfield HVAC Uninterrupted Power Supply

—Construct Moving Walkway Concourse D

—Mineral Estates Condemnation Program

—Install Public Roadway Signage

—Install Public Walkway Canopies

—Install Public Information Center

—Improve Runway Safety Areas—R/W 10L-28R, 10R-28L

—Acquire Airfield Driving Training Simulator

—Environmental Assessment Mitigation

—Upgrade and Expand Surface Sensor System

—Replace Security Fence

—Improve Fire System Pumphouse Facilities and Systems

—FAA Competition Plan

—PFC Application Development

Class or classes of air carriers which the public agency has requested not be required to collect PFCs: Non-scheduled, on-demand air carriers filing FAA Form 1800-31.

Any person may inspect the application in person at the FAA office listed above under FOR FURTHER INFORMATION CONTACT and at the FAA regional airports office located at: FAA, Airports Division, AEA-610, 1 Aviation Plaza, Jamaica, New York, 11434-4809.

In addition, any person may, upon request, inspect the application, notice and other documents germane to the application in person at the Allegheny County Airport Authority.

Issued in Camp Hill, Pennsylvania, on June 11, 2001.
Sharon A. Daboin,
Manager, HAR ADO, Eastern Region.

[FR Doc. 01-15343 Filed 6-15-01; 8:45 am]

BILLING CODE 4910-13-M